DEPARTMENT OF TRANSPORTATION

Federal Aviation Administration

14 CFR Part 39

[Docket No. FAA-2010-0546; Directorate Identifier 2009-NM-215-AD]

RIN 2120-AA64

Airworthiness Directives; Empresa Brasileira de Aeronautica S.A. (EMBRAER) Model EMB-120, -120ER, -120FC, -120QC, and -120RT Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as: It has been found that some fuel quantity probes may fail during the airplane life leading to an erroneous fuel quantity indication to the crew. This erroneous indication may lead to the airplane being operated with less fuel than indicated which may lead to an uncommanded in-flight shutdown of one or both engines due to fuel starvation. The proposed AD would require actions that are intended to address the unsafe condition described in the MCAI.

DATES: We must receive comments on this proposed AD by July 19, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact Empresa Brasileira de Aeronautica S.A. (EMBRAER), Technical Publications Section (PC 060), Av. Brigadeiro Faria Lima, 2170—Putim—12227-901 São Jose dos Campos—SP—BRASIL; telephone: +55 12 3927-5852 or +55 12 3309-0732; fax: +55 12 3927-7546; e-mail: distrib@embraer.com.br; Internet: http://www.flyembraer.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Todd Thompson, Aerospace Engineer, International Branch, ANM-116, Transport Airplane Directorate, FAA, 1601 Lind Avenue, SW., Renton, Washington 98057-3356; telephone (425) 227-1175; fax (425) 227-1149.

SUPPLEMENTARY INFORMATION:

Comments Invited

We invite you to send any written relevant data, views, or arguments about this proposed AD. Send your comments to an address listed under the ADDRESSES section. Include “Docket No. FAA-2010-0546; Directorate Identifier 2009-NM-215-AD” at the beginning of your comments. We specifically invite comments on the overall regulatory, economic, environmental, and energy aspects of this proposed AD. We will consider all comments received by the closing date and may amend this proposed AD based on those comments.

We have lengthened the 30-day comment period for proposed ADs that address MCAI originated by aviation authorities of other countries to provide adequate time for interested parties to submit comments. The comment period for these proposed ADs is now typically 45 days, which is consistent with the comment period for domestic transport ADs.

We will post all comments we receive, without change, to http://www.regulations.gov, including any personal information you provide. We will also post a report summarizing each substantive verbal contact we receive about this proposed AD.

Discussion

The Agência Nacional de Aviação Civil (ANAC), which is the aviation authority for Brazil, has issued Brazilian Airworthiness Directive 2009-07-04, effective July 13, 2009 (referred to after this as “the MCAI”), to correct an unsafe condition for the specified products. The MCAI states:

It has been found that some fuel quantity probes may fail during the airplane life leading to an erroneous fuel quantity indication to the crew. This erroneous indication may lead to the airplane being operated with less fuel than indicated which may lead to an uncommanded in-flight shutdown of one or both engines due to fuel starvation.

* * * * *

Required actions include determining the real fuel quantity on each tank using the dripless measuring sticks, comparing the results of the fuel quantity measurement with the fuel master indicator and repeater indicator readings for each tank, and corrective actions as applicable. Corrective actions include replacing the measuring stick and its relevant magnetic float, replacing the master fuel quantity indicator, and replacing the repeater indicator, as applicable; inspecting defective tank units for contamination, corrosion and integrity of components, and repairing or replacing as necessary; inspecting system wiring from the connector at the wing root to the master indicator for condition and continuity; and correcting the fuel quantity indication system; as applicable. You may obtain further information by examining the MCAI in the AD docket.

Relevant Service Information

Embraer has issued Sections 28-41-00 and 28-42-00 of Chapter 28 of the EMBRAER EMB120 Aircraft Maintenance Manual, Revision 24, dated March 30, 2009. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a Note within the proposed AD.

Costs of Compliance

Based on the service information, we estimate that this proposed AD would affect about 77 products of U.S. registry. We also estimate that it would take about 2 work-hours per product to comply with the basic requirements of this proposed AD. The average labor rate is $85 per work-hour. Based on these figures, we estimate the cost of the proposed AD on U.S. operators to be $13,090, or $170 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Empresa Brasileira de Aeronautica S.A. (EMBRAER): Docket No. FAA-2010-0546; Directorate Identifier 2009-NM-215-AD.

Comments Due Date

(a) We must receive comments by July 19, 2010.

Affected ADs

(b) None.

Applicability

(c) This AD applies to all Empresa Brasileira de Aeronautica S.A. (EMBRAER) Model EMB-120, -120ER, -120FC, -120QC, and -120RT airplanes, certificated in any category.

Subject

(d) Air Transport Association (ATA) of America Code 28: Fuel.

Reason

(e) The mandatory continuing airworthiness information (MCAI) states:

It has been found that some fuel quantity probes may fail during the airplane life leading to an erroneous fuel quantity indication to the crew. This erroneous indication may lead to the airplane being operated with less fuel than indicated which may lead to an uncommanded in-flight shutdown of one or both engines due to fuel starvation.

Required actions include determining the real fuel quantity on each tank using the dripless measuring sticks, comparing the results of the fuel quantity measurement with the fuel master indicator and repeater indicator readings for each tank, and corrective actions as applicable. Corrective actions include replacing the measuring stick and its relevant magnetic float, replacing the master fuel quantity indicator, and replacing the repeater indicator, as applicable; inspecting defective tank units for contamination, corrosion and integrity of components, and repairing or replacing as necessary; inspecting system wiring from the connector at the wing root to the master indicator for condition and continuity; and correcting the fuel quantity indication system; as applicable.

Compliance

(f) You are responsible for having the actions required by this AD performed within the compliance times specified, unless the actions have already been done.

Actions

(g) Within 600 flight hours or 180 days after the effective date of this AD, whichever occurs first, with at least 400 kg (882 lb) of fuel on each tank, determine the real fuel quantity on each tank using the dripless measuring sticks, in accordance with Sections 28-41-00 and 28-42-00 of Chapter 28 of the EMBRAER EMB120 Aircraft Maintenance Manual, Revision 24, dated March 30, 2009. Before further flight, compare the results of the fuel quantity measurement with the fuel master indicator and repeater indicator readings for each tank and do the applicable action in paragraph (g)(1), (g)(2), or (g)(3) of this AD.

(1) If the difference of the two measurements is greater than 60 kg (132 lb) on both tanks, before further flight do all applicable corrective actions including correcting the FQIS, in accordance with Sections 28-41-00 and 28-42-00 of Chapter 28 of the EMBRAER EMB120 Aircraft Maintenance Manual, Revision 24, dated March 30, 2009.

(2) If the difference of the two measurements is greater than 60 kg (132 lb) on only one tank, and the conditions in paragraphs (g)(2)(i), (g)(2)(ii), and (g)(2)(iii) of this AD are met, do all applicable corrective actions including correcting the FQIS, in accordance with Sections 28-41-00 and 28-42-00 of Chapter 28 of the EMBRAER EMB120 Aircraft Maintenance Manual, Revision 24, dated March 30, 2009, within 10 days after determining the real fuel quantity as specified in paragraph (g) of this AD.

(i) Before further flight after each refueling, the actions required in paragraph (g) of this AD are done;

(ii) Both fuel flow indicators are operating properly; and

(iii) The fuel used or fuel remaining function of the totalizer is operating properly.

(3) If the difference of the two measurements is greater than 60 kg (132 lb) on only one tank, and any condition in paragraph (g)(2)(i), (g)(2)(ii), or (g)(2)(iii) of this AD is not met, before further flight do all applicable corrective actions including correcting the FQIS, in accordance with Sections 28-41-00 and 28-42-00 of Chapter 28 of the EMBRAER EMB120 Aircraft Maintenance Manual, Revision 24, dated March 30, 2009.

(h) Repeat the actions required in paragraph (g) of this AD thereafter at intervals not to exceed 600 flight hours or 180 days, whichever occurs first.

FAA AD Differences

Note 1: This AD differs from the MCAI and/or service information as follows: This AD requires doing all applicable corrective actions in accordance with Sections 28-41-00 and 28-42-00 of Chapter 28 of the EMBRAER EMB120 Aircraft Maintenance Manual, Revision 24, dated March 30, 2009. Corrective actions include replacing the measuring stick and its relevant magnetic float, replacing the master fuel quantity indicator, and replacing the repeater indicator, as applicable; inspecting defective tank units for contamination, corrosion and integrity of components, and repairing or replacing as necessary; inspecting system wiring from the connector at the wing root to the master indicator for condition and continuity; and correcting the fuel quantity indication system; as applicable. The MCAI does not provide a corrective action and only requires a repetitive functional check of the FQIS in accordance with Section 28-42-00 of Chapter 28 of the EMBRAER EMB120 Aircraft Maintenance Manual, Revision 24, dated March 30, 2009. This difference has been coordinated with Agência Nacional de Aviação Civil (ANAC).

Other FAA AD Provisions

(i) The following provisions also apply to this AD:

(1) Alternative Methods of Compliance (AMOCs): The Manager, International Branch, ANM-116, FAA, has the authority to approve AMOCs for this AD, if requested using the procedures found in 14 CFR 39.19. Send information to ATTN: Todd Thompson, Aerospace Engineer, International Branch, ANM-116, Transport Airplane Directorate, FAA, 1601 Lind Avenue, SW., Renton, Washington 98057-3356; telephone (425) 227-1175; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(j) Refer to MCAI Brazilian Airworthiness Directive 2009-07-04, effective July 13, 2009; and Sections 28-41-00 and 28-42-00 of Chapter 28 of the EMBRAER EMB120 Aircraft Maintenance Manual, Revision 24, dated March 30, 2009; for related information.

Issued in Renton, Washington, on May 25, 2010.
Ali Bahrami,
Manager, Transport Airplane Directorate, Aircraft Certification Service.

[FR Doc. 2010-13304 Filed 6-2-10; 8:45 am]

BILLING CODE 4910-13-P